UNITED STATES OFFICE OF SPECIAL COUNSEL

Guidelines for Ensuring and Maximizing the Quality, Objectivity, Utility, and Integrity of Information Disseminated by Federal Agencies

AGENCY: United States Office of Special Counsel

ACTION: Notice

SUMMARY: On April 30, 2002, the Office of Special Counsel (OSC) published a Draft Report and Guidelines for Ensuring and Maximizing the Quality, Objectivity, Utility, and Integrity of Information Disseminated by the Office of Special Counsel. Public comments were invited and were due on or before June 1, 2002. This notice announces an extension of the June 1st deadline for comments to July 10, 2002.

DATES: Comments on the OSC draft report and guidelines must be postmarked or sent by electronic mail on July 8, 2002, or before July 10, 2002, to the addresses provided below.

ADDRESSES: Comments should be sent by regular mail or electronic mail to OSC's Planning and Advice Division. Comments sent by regular mail should be addressed to: Sharyn Danch, Planning and Advice Division, Office of Special Counsel, 1730 M Street, N.W. (Suite 201), Washington, DC 20036-4505; comments sent by electronic mail should be addressed to info_quality@osc.gov. All comments received will be included in the official record of this action

FOR FURTHER INFORMATION CONTACT: Sharyn Danch, by mail (Planning and Advice Division, Office of Special Counsel, 1730 M Street, N.W. (Suite 201), Washington, DC 20036-4505), or electronic mail (info_quality@osc.gov). The draft report and guidelines referred to in this notice are available on the OSC Web site, at www.osc.gov (at the “Reading Room” link on the home page).

SUPPLEMENTARY INFORMATION: On April 30, 2002, OSC published its draft report and information quality guidelines in the Federal Register and announced that it was seeking comments by June 1, 2002. 67 FR 21316. The draft guidelines describe OSC procedures for pre-dissemination information quality control, and an administrative mechanism for the receipt of requests to correct covered information.

OSC is now extending the comment period to July 10, 2002, to provide the public with additional time to comment. This extension is provided at the suggestion of the Office of Management and Budget (OMB) in its notice providing agencies with an extension of time in which to submit their draft report and guidelines to OMB. 67 FR 40755 (June 6, 2002).

Dated: July 01, 2002.
Elaine D. Kaplan,
Special Counsel.

[FR Doc. 02-17017 Filed 7-5-02; 8:45 am]

BILLING CODE 7405-01-S